DEPARTMENT OF COMMERCE

National Oceanic and Atmospheric Administration

RIN 0648-XD466

North Pacific Fishery Management Council; Public Meeting

AGENCY: National Marine Fisheries Service (NMFS), National Oceanic and Atmospheric Administration (NOAA), Commerce.

ACTION: Notice of a public meeting.

SUMMARY: The North Pacific Fishery Management Council's (NPFMC) Bering Sea Aleutian Islands (BSAI) Crab Plan Team (CPT) in Seattle, WA.

DATES: The meeting will be held September 15-18, 2014. The meeting will be held from 9 a.m. until 5 p.m., each day.

ADDRESSES: The meeting will be held at the Alaska Fishery Science Center, 7600 Sand Point Way NE., Building 4, Seattle, WA.

Council address: North Pacific Fishery Management Council, 605 W. 4th Avenue, Suite 306, Anchorage, AK 99501-2252.

FOR FURTHER INFORMATION CONTACT: Diana Stram, telephone: (907) 271-2809.

SUPPLEMENTARY INFORMATION: The Plan Team will review and make final 2014/15 recommendations on specifications (Over Fishing Levels (OFLs) and Acceptable Biological Catch (ABCs) for 7 BSAI crab stocks as well as review developing stock assessment models, and make recommendations for the next assessment cycle.

The Agenda is subject to change, and the latest version will be posted at http://www.npfmc.org/.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 25, 2014.
William D. Chappell,
Acting Deputy Director, Office of Sustainable Fisheries, National Marine Fisheries Service.

[FR Doc. 2014-20532 Filed 8-28-14; 8:45 am]

BILLING CODE 3510-22-P